FEDERAL COMMUNICATIONS COMMISSION

47 CFR Part 25

[IB Docket No. 12-267; FCC 17-100]

Implementation of Transmitter Identification Requirements for Video Uplink Transmissions

AGENCY: Federal Communications Commission.

ACTION: Final rule.

SUMMARY: The Federal Communications Commission (Commission) is issuing this final rule to is waive a transmitter identification requirement for certain digital video transmissions that cannot be made compliant by a software upgrade and incorporate by reference a new version of an existing standard.

DATES: Effective September 25, 2017. The incorporation by reference of a publication listed in the rule is approved by the Director of the Federal Register as of September 25, 2017.

ADDRESSES: FCC Reference Information Center, Portals II, 445 12th Street SW., Room CY-A257, Washington, DC 20554 for full text of “Memorandum Opinion and Order, FCC 17-100” (also at https://apps.fcc.gov/edocs_public/attachmatch/FCC-17-100A1.pdf) and inspection of material incorporated by reference. See SUPPLEMENTARY INFORMATION for details.

FOR FURTHER INFORMATION CONTACT: Clay DeCell, 202-418-0803, Clay.DeCell@fcc.gov.

SUPPLEMENTARY INFORMATION: This is a summary of the Commission's Memorandum Opinion and Order, FCC 17-100, adopted July 28, 2017, and released August 1, 2017. The full text of this document is available at https://apps.fcc.gov/edocs_public/attachmatch/FCC-17-100A1.pdf. It is also available for inspection and copying during business hours in the FCC Reference Information Center, Portals II, 445 12th Street SW., Room CY-A257, Washington, DC 20554. To request materials in accessible formats for people with disabilities, send an email to FCC504@fcc.gov or call the Consumer & Governmental Affairs Bureau at 202-418-0530 (voice), 202-418-0432 (TTY).

Synopsis

In the Part 25 Order, FCC 13-111, the Commission concluded that adoption of the Digital Video Broadcasting-Carrier Identification (DVB-CID) standard for digital video uplinks from temporary-fixed earth stations was appropriate to address potential instances of harmful interference, by making transmissions more readily identifiable by satellite operators. We continue to believe that an added cost of a few hundred dollars per unit is justified to achieve this goal for earth station equipment that can undergo a software upgrade. We also agree with the overwhelming response from commenters in this proceeding on the implementation of the DVB-CID standard, however, that the much more significant expense of replacing older equipment that cannot simply undergo a software update would be unduly burdensome to operators, many of which are small businesses. And importantly, we note that no satellite operators, the direct beneficiaries of the DVB-CID requirement, opposed further relief.

Based on the record, we conclude it will serve the public interest to waive 47 CFR 25.281(b) for earth stations using modulators manufactured before August 1, 2017, that cannot be made compliant with the DVB-CID standard by a software upgrade. This waiver will allow use and resale of non-compliant modulators until the end of their useful life, but requires earth stations using newly manufactured modulators to be DVB-CID compliant. Other affected earth stations must meet the DVB-CID standard by September 3, 2017. We conclude this treatment best balances the costs and benefits of implementing DVB-CID in light of the significant cost disparity presented in the record. We believe that the amount of equipment affected by this waiver will steadily decrease as such equipment reaches the end of its useful life. Should the Commission find that the continued operation of non-compliant equipment causes a pattern of complaints from satellite operators that they are having difficulty identifying the sources of any harmful interference, the Commission may revisit this waiver.

Procedural Matters

This document does not contain new or modified information collection requirements subject to the Paperwork Reduction Act of 1995, Public Law 104-13. In addition, therefore, it does not contain any new or modified information collection burden for small business concerns with fewer than 25 employees, pursuant to the Small Business Paperwork Relief Act of 2002, Public Law 107-198, see 44 U.S.C. 3506(c)(4).

The Commission will send a copy of the Memorandum Opinion and Order to Congress and the Government Accountability Office pursuant to the Congressional Review Act, see 5 U.S.C. 801(a)(1)(A).

Incorporation by Reference

This final rule updates and moves an incorporation by reference previously found in 47 CFR 25.281(b). In the Part 25 Order, FCC-13-111, published at 79 FR 8325, February 12, 2014, the Commission adopted an incorporation by reference in 47 CFR 25.281(b)(1) of the standard ETSI TS 103 129 (2013-05), “Technical Specification, Digital Video Broadcasting (DVB); Framing structure, channel coding and modulation of a carrier identification system (DVB-CID) for satellite transmission.” Subsequently, the Commission created a centralized incorporation by reference section in 47 CFR 25.108. We move the incorporation by reference language from 47 CFR 25.281(b)(1) to the new, centralized incorporation by reference section, 47 CFR 25.108, as a new paragraph. In addition, we update this reference by specifying the most recent version of this standard, released in March 2014. The revised version contains updated elements and is better suited to our goal of ensuring the efficient identification of sources of interference.

This standard is reasonably available. It can be viewed during normal business hours at the Commission address found in ADDRESSES. It can also be purchased from the European Telecommunications Standards Institute using the contact information noted in the rule text, and is available for free download on their Web site, http://www.etsi.org.

This standard contains technical requirements for satellite newsgathering vehicles, and other temporary-fixed earth stations, to identify digital video transmissions. Earth station operators are required to comply with this standard. Licensees affected by the rule section including these materials by reference should become familiar with the incorporated materials.

Ordering Clauses

Accordingly, it is ordered, pursuant to sections 4(i), 303, and 316 of the Communications Act of 1934, as amended, 47 U.S.C. 154(i), 303, 316, and § 1.3 of the Commission's rules, 47 CFR 1.3, that the Memorandum Opinion and Order is adopted.

It is further ordered that § 25.281(b) of the Commission's rules, 47 CFR 25.281(b), is waived as described in the Memorandum Opinion and Order.

It is further ordered that §§ 25.108 and 25.281 of the Commission's rules, 47 CFR 25.108, 25.281, are amended as specified below.

List of Subjects in 47 CFR Part 25

Earth stations, Incorporation by reference.

Federal Communications Commission.
Marlene H. Dortch,
Secretary.

Final Rules

For the reasons discussed in the preamble, the Federal Communications Commission amends 47 CFR part 25 as follows:

PART 25—SATELLITE COMMUNICATIONS

1. The authority citation for part 25 continues to read as follows:

Authority: Interprets or applies 47 U.S.C. 154, 301, 302, 303, 307, 309, 310, 319, 332, 605, and 721, unless otherwise noted.

2. Amend § 25.108 by redesignating paragraph (b) as paragraph (c) and adding new paragraph (b) to read as follows:

§ 25.108 Incorporation by reference.

* * * * *

(b) European Telecommunications Standards Institute (ETSI), 650 Route des Lucioles, 06921 Sophia-Antipolis Cedex, France; http://www.etsi.org; Voice: +33 (0)4 92 94 42 00; Fax: +33 (0)4 93 65 47 16; email: webstore@etsi.org.

(1) ETSI TS 103 129 V1.1.2 (2014-03), “Digital Video Broadcasting (DVB); Framing structure, channel coding and modulation of a carrier identification system (DVB-CID) for satellite transmission,” Version 1.1.2, March 2014. Incorporation by reference approved for § 25.281(b).

(2) [Reserved]

* * * * *

3. Amend § 25.281 by revising paragraphs (b) introductory text and (b)(1) and adding Note 1 to paragraph (b) to read as follows:

§ 25.281 Transmitter identification requirements for video uplink transmissions.

* * * * *

(b) As of September 3, 2017, transmissions of fixed-frequency, digitally modulated video signals with a symbol rate of 128,000/s or more from a temporary-fixed earth station must be identified through use of an ATIS in accordance with the requirements that follow.

(1) The ATIS message must be modulated onto a direct sequence spread spectrum signal in accordance with the DVB-CID standard, ETSI TS 103 129 V1.1.2 (2014-03) (incorporated by reference, see § 25.108).

* * * * *

Note 1 to paragraph (b): Paragraph (b) is waived for earth stations using modulators manufactured before August 1, 2017, that cannot be made compliant with the DVB-CID standard by a software upgrade.

* * * * *

[FR Doc. 2017-18071 Filed 8-24-17; 8:45 am]

BILLING CODE 6712-01-P